INTERNATIONAL TRADE COMMISSION

[Investigation No. 731-TA-1123 (Second Review)]

Steel Wire Garment Hangers From China

Determination

On the basis of the record ¹ developed in the subject five-year review, the United States International Trade Commission (“Commission”) determines, pursuant to the Tariff Act of 1930 (“the Act”), that revocation of the antidumping duty order on steel wire garment hangers from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on February 1, 2019 (84 FR 2245, February 6, 2019) and determined on May 7, 2019 that it would conduct an expedited review (84 FR 32217, July 5, 2019).

The Commission made this determination pursuant to section 751(c) of the Act (19 U.S.C. 1675(c)). It completed and filed its determination in this review on August 16, 2019. The views of the Commission are contained in USITC Publication 4945 (August 2019), entitled Steel Wire Garment Hangers from China: Investigation No. 731-TA-1123 (Second Review).

By order of the Commission.
Issued: August 16, 2019.
Lisa Barton,
Secretary to the Commission.

[FR Doc. 2019-18017 Filed 8-20-19; 8:45 am]

BILLING CODE 7020-02-P